ENVIRONMENTAL PROTECTION AGENCY

[FRL-8337-7]

Coastal Elevations and Sea Level Rise Advisory Committee Meeting

AGENCY: Environmental Protection Agency (EPA).

ACTION: Notice of meeting.

SUMMARY: Under the Federal Advisory Committee Act (Pub. L. 92-463), EPA gives notice of a public meeting of the Coastal Elevations and Sea Level Rise Advisory Committee (CESLAC).

DATE AND TIME: The meeting will be held on Friday, July 27, 2007, from 12:30 p.m. until 3:30 p.m.

ADDRESSES: The meeting will take place via teleconference. Interested parties can access the teleconference as follows. First, dial the following toll free number: (866) 299-3188. Second, enter the following conference code: 2023439719#. The leader will begin the conference call.

FOR FURTHER INFORMATION CONTACT: Jack Fitzgerald, Designated Federal Officer, Climate Change Division, Mail Code 6207J, Office of Atmospheric Programs, Environmental Protection Agency, 1200 Pennsylvania Avenue, NW., Washington, DC 20460; e-mail address: Fitzgerald.jack@epa.gov, telephone number (202) 343-9336, fax: (202) 343-2337.

SUPPLEMENTARY INFORMATION: The purpose of CESLAC is to provide advice on the conduct of a study titled Coastal Elevations and Sensitivity to Sea Level Rise which is being conducted as part of the U.S. Climate Change Science Program (CCSP). The study pays particular attention to the coastal area of the U.S. from the state of New York through North Carolina. A copy of the study prospectus is available at: http://www.climatescience.gov/Library/sap/sap4-1/default.php. A copy of the Committee Charter is available at http://www.fido.gov/facadatabase/. This is the third meeting of CESLAC. The meeting will focus on consideration of a draft of the study. Draft materials that will be considered in the meeting can be found at: http://www.environmentalinformation.net/CESLAC/ as of Friday, July 13, 2007. If a printed copy of the material is needed, please contact Ms. Beth Scherer by: (1) E-mail at BScherer@stratusconsulting.com; (2) phone at (202) 466-3731, ext. 20; (3) mail at Stratus Consulting, 1920 L St., NW., Suite 420, Washington, DC 20036. Based on the extent of public participation in the first two meetings of CESLAC, thirty minutes of this third meeting will be allocated for statements by members of the public. Individuals who are interested in making statements should inform Jack Fitzgerald of their interest by Tuesday, July 24, and provide a copy of their statements for the record. Individuals will be scheduled in the order that their statements of intent to present are received. A minimum of three minutes will be provided for each statement. The maximum amount of time will depend on the number of statements to be made. All statements, regardless of whether there is sufficient time to present them orally, will be included in the record and considered by the committee.

List of Subjects

Environmental protection.

Dated: July 3, 2007.
Jack Fitzgerald,
Designated Federal Officer.

[FR Doc. E7-13340 Filed 7-9-07; 8:45 am]

BILLING CODE 6560-50-P